ENVIRONMENTAL PROTECTION AGENCY

40 CFR Part 81

[EPA-R05-OAR-2018-0368; EPA-R05-OAR-2018-0556; FRL-9988-38-Region 5]

Air Plan Approval; Illinois; Indiana; Revised Designation of Illinois and Indiana 2012 PM2.5 Unclassifiable Areas

AGENCY: Environmental Protection Agency (EPA).

ACTION: Final rule.

SUMMARY: The Environmental Protection Agency (EPA) is approving Illinois' May 8, 2018 request to revise the designation for the entire State of Illinois from unclassifiable to unclassifiable/attainment and Indiana's July 3, 2018 request to revise the designation for the Indiana portions of the Chicago IL-IN and Louisville KY-IN areas from unclassifiable to unclassifiable/attainment for the 2012 primary and secondary annual fine particulate matter (PM2.5) National Ambient Air Quality Standards (NAAQS). EPA is approving these requests because valid, quality-assured, and certified ambient air monitoring data show that the PM2.5 monitors in the areas are meeting the 2012 primary and secondary annual PM2.5 NAAQS.

DATES: This final rule is effective on January 28, 2019.

ADDRESSES: EPA has established a docket for this action under Docket ID No. EPA-R05-OAR-2018-0368 (Illinois) or EPA-R05-OAR-2018-0556 (Indiana). All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays. We recommend that you telephone Michelle Becker, Life Scientist, at (312) 886-3901 before visiting the Region 5 office.

FOR FURTHER INFORMATION CONTACT: Michelle Becker, Life Scientist, at (312) 886-3901, Attainment Planning and Maintenance Section, Air Programs Branch (AR-18J), Environmental Protection Agency, Region 5, 77 West Jackson Boulevard, Chicago, Illinois 60604, (312) 886-3901, becker.michelle@epa.gov.

SUPPLEMENTARY INFORMATION: Throughout this document whenever “we,” “us,” or “our” is used, we mean EPA. This supplementary information section is arranged as follows:

I. Background

II. What action is EPA taking?

III. Statutory and Executive Order Reviews

I. Background

On December 14, 2012, EPA revised the primary annual NAAQS for PM2.5 to a level of 12 micrograms per cubic meter (µg/m³), based on a 3-year average of annual mean PM2.5 concentrations. See 78 FR 3085 (January 15, 2013). EPA established the standard based on significant evidence and numerous health studies demonstrating that serious health effects are associated with exposures to particulate matter.

The process for designating areas following promulgation of a new or revised NAAQS is contained in section 107(d)(1) of the Clean Air Act (CAA). On January 15, 2015 (80 FR 2206) and April 7, 2015 (80 FR 18535), EPA designated areas across the country as nonattainment, unclassifiable, or unclassifiable/attainment for the PM2.5 NAAQS based upon air quality monitoring data from monitors for calendar years 2011-2013 or 2012-2014.

In the first action, EPA designated the entire State of Illinois, including the multi-State areas of Chicago, IL-IN and St. Louis, MO-IL as unclassifiable because the ambient air quality monitoring sites lacked complete data for the relevant periods, which were from 2011-2013. Therefore, EPA could not determine, based on available information, whether those areas were meeting the 2012 PM2.5 NAAQS. EPA also designated the Louisville, KY-IN area as nonattainment, based on monitoring data for Indiana counties Clark and Floyd for 2011-2013 showing that a monitor in Clark County had a design value above the standard.

However, in the April 7, 2015 (80 FR 18535) action, EPA changed the designation for Louisville, KY-IN area from nonattainment to unclassifiable due to invalid monitoring data for Jefferson County, Kentucky.

On May 8, 2018, Illinois submitted a request to revise the designation for the entire State of Illinois from unclassifiable to unclassifiable/attainment and on July 3, 2018 Indiana submitted a request to revise the designation for the Indiana portions of the Chicago IL-IN and Louisville KY-IN areas from unclassifiable to unclassifiable/attainment for the 2012 annual PM2.5 NAAQS.

In a notice of proposed rulemaking (NPRM) published on October 9, 2018 (83 FR 50556), EPA proposed to approve Illinois' request to revise the entire State of Illinois from unclassifiable to unclassifiable/attainment, and Indiana's request to similarly revise the designation for the Indiana portions of the Chicago IL-IN and Louisville KY-IN, for the 2012 annual PM2.5 NAAQS. The details of Illinois' and Indiana's submittals and the rationale for EPA's actions are further explained in the NPRM. EPA did not receive any adverse comments on the proposed action.

II. What action is EPA taking?

EPA is approving Illinois' May 8, 2018 request to revise the designation of the entire State from unclassifiable to unclassifiable/attainment as well as Indiana's July 3, 2018 request to similarly revise the designation of the Indiana portions of the Louisville and Chicago areas for the 2012 annual PM2.5 NAAQS. The revised designations change the legal designation, found at 40 CFR part 81, for the Illinois and Indiana counties of Lake, Porter, Clark, and Floyd from unclassifiable to unclassifiable/attainment for the 2012 annual PM2.5 NAAQS.

III. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by February 25, 2019. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 81

Environmental protection, Air pollution control, Particulate matter.

Dated: December 12, 2018.
Cathy Stepp,
Regional Administrator, Region 5.

40 CFR part 81 is amended as follows:

PART 81—DESIGNATION OF AREAS FOR AIR QUALITY PLANNING PURPOSES

1. The authority citation for part 81 continues to read as follows:

Authority: 42 U.S.C. 7401, et seq.

2. Section 81.314 is amended by removing the table entitled “Illinois—2012 24-Hour PM2.5 NAAQS” and adding the table entitled “Illinois—2012 Annual PM2.5 NAAQS” in its place to read as follows:

§ 81.314 Illinois.

* * * * *

Illinois—2012 Annual PM2.5 NAAQS
[Primary]
Designated area ¹ | Designation: Date ² | Designation: Type | Classification: Date ² | Classification: Type
Chicago, IL-IN:
Cook County |  | Unclassifiable/Attainment.
DuPage County |  | Unclassifiable/Attainment.
Grundy County (part) |  | Unclassifiable/Attainment.
Goose Lake and Aux Sable Townships |  | Unclassifiable/Attainment.
Kane County |  | Unclassifiable/Attainment.
Kendall County (part) |  | Unclassifiable/Attainment.
Oswego Township |  | Unclassifiable/Attainment.
Lake County |  | Unclassifiable/Attainment.
McHenry County |  | Unclassifiable/Attainment.
Will County |  | Unclassifiable/Attainment.
Davenport-Moline-Rock Island, IL:
Rock Island County |  | Unclassifiable/Attainment.
Henry County |  | Unclassifiable/Attainment.
Mercer County |  | Unclassifiable/Attainment.
St. Louis, MO-IL:
Madison County |  | Unclassifiable/Attainment.
Monroe County |  | Unclassifiable/Attainment.
Randolph County (part) |  | Unclassifiable/Attainment.
Baldwin Village |  | Unclassifiable/Attainment.
St. Clair County |  | Unclassifiable/Attainment.
Rest of State:
Adams County |  | Unclassifiable/Attainment.
Alexander County |  | Unclassifiable/Attainment.
Bond County |  | Unclassifiable/Attainment.
Boone County |  | Unclassifiable/Attainment.
Brown County |  | Unclassifiable/Attainment.
Bureau County |  | Unclassifiable/Attainment.
Calhoun County |  | Unclassifiable/Attainment.
Carroll County |  | Unclassifiable/Attainment.
Cass County |  | Unclassifiable/Attainment.
Champaign County |  | Unclassifiable/Attainment.
Christian County |  | Unclassifiable/Attainment.
Clark County |  | Unclassifiable/Attainment.
Clay County |  | Unclassifiable/Attainment.
Clinton County |  | Unclassifiable/Attainment.
Coles County |  | Unclassifiable/Attainment.
Crawford County |  | Unclassifiable/Attainment.
Cumberland County |  | Unclassifiable/Attainment.
DeKalb County |  | Unclassifiable/Attainment.
De Witt County |  | Unclassifiable/Attainment.
Douglas County |  | Unclassifiable/Attainment.
Edgar County |  | Unclassifiable/Attainment.
Edwards County |  | Unclassifiable/Attainment.
Effingham County |  | Unclassifiable/Attainment.
Fayette County |  | Unclassifiable/Attainment.
Ford County |  | Unclassifiable/Attainment.
Franklin County |  | Unclassifiable/Attainment.
Fulton County |  | Unclassifiable/Attainment.
Gallatin County |  | Unclassifiable/Attainment.
Greene County |  | Unclassifiable/Attainment.
Grundy County (remainder) |  | Unclassifiable/Attainment.
Hamilton County |  | Unclassifiable/Attainment.
Hancock County |  | Unclassifiable/Attainment.
Hardin County |  | Unclassifiable/Attainment.
Henderson County |  | Unclassifiable/Attainment.
Iroquois County |  | Unclassifiable/Attainment.
Jackson County |  | Unclassifiable/Attainment.
Jasper County |  | Unclassifiable/Attainment.
Jefferson County |  | Unclassifiable/Attainment.
Jersey County |  | Unclassifiable/Attainment.
Jo Daviess County |  | Unclassifiable/Attainment.
Johnson County |  | Unclassifiable/Attainment.
Kankakee County |  | Unclassifiable/Attainment.
Kendall County (remainder) |  | Unclassifiable/Attainment.
Knox County |  | Unclassifiable/Attainment.
La Salle County |  | Unclassifiable/Attainment.
Lawrence County |  | Unclassifiable/Attainment.
Lee County |  | Unclassifiable/Attainment.
Livingston County |  | Unclassifiable/Attainment.
Logan County |  | Unclassifiable/Attainment.
McDonough County |  | Unclassifiable/Attainment.
McLean County |  | Unclassifiable/Attainment.
Macon County |  | Unclassifiable/Attainment.
Macoupin County |  | Unclassifiable/Attainment.
Marion County |  | Unclassifiable/Attainment.
Marshall County |  | Unclassifiable/Attainment.
Mason County |  | Unclassifiable/Attainment.
Massac County |  | Unclassifiable/Attainment.
Menard County |  | Unclassifiable/Attainment.
Montgomery County |  | Unclassifiable/Attainment.
Morgan County |  | Unclassifiable/Attainment.
Moultrie County |  | Unclassifiable/Attainment.
Ogle County |  | Unclassifiable/Attainment.
Peoria County |  | Unclassifiable/Attainment.
Perry County |  | Unclassifiable/Attainment.
Piatt County |  | Unclassifiable/Attainment.
Pike County |  | Unclassifiable/Attainment.
Pope County |  | Unclassifiable/Attainment.
Pulaski County |  | Unclassifiable/Attainment.
Putnam County |  | Unclassifiable/Attainment.
Randolph County (remainder) |  | Unclassifiable/Attainment.
Richland County |  | Unclassifiable/Attainment.
Saline County |  | Unclassifiable/Attainment.
Sangamon County |  | Unclassifiable/Attainment.
Schuyler County |  | Unclassifiable/Attainment.
Scott County |  | Unclassifiable/Attainment.
Shelby County |  | Unclassifiable/Attainment.
Stark County |  | Unclassifiable/Attainment.
Stephenson County |  | Unclassifiable/Attainment.
Tazewell County |  | Unclassifiable/Attainment.
Union County |  | Unclassifiable/Attainment.
Vermilion County |  | Unclassifiable/Attainment.
Wabash County |  | Unclassifiable/Attainment.
Warren County |  | Unclassifiable/Attainment.
Washington County |  | Unclassifiable/Attainment.
Wayne County |  | Unclassifiable/Attainment.
White County |  | Unclassifiable/Attainment.
Whiteside County |  | Unclassifiable/Attainment.
Williamson County |  | Unclassifiable/Attainment.
Winnebago County |  | Unclassifiable/Attainment.
Woodford County |  | Unclassifiable/Attainment.
¹ Includes Indian Country located in each county or area, except as otherwise specified.
² This date is January 28, 2019, unless otherwise noted.

* * * * *

3. Section 81.315 is amended by revising the entries “Louisville, KY-IN:” and “Chicago Area, IL-IN:” in the table entitled “Indiana—2012 Annual PM2.5 NAAQS” to read as follows:

§ 81.315 Indiana.

* * * * *

Indiana—2012 Annual PM2.5 NAAQS
[Primary]
Designated area ¹ | Designation: Date ² | Designation: Type | Classification: Date ² | Classification: Type
Louisville, KY-IN:
Clark County | 1/28/2018 | Unclassifiable/Attainment.
Floyd County | 1/28/2018 | Unclassifiable/Attainment.
Chicago Area, IL-IN:
Lake County | 1/28/2018 | Unclassifiable/Attainment.
Porter County | 1/28/2018 | Unclassifiable/Attainment.
* * * * * * *
¹ Includes areas of Indian country located in each county or area, except as otherwise specified.
² This date is April 15, 2015, unless otherwise noted.

* * * * *

[FR Doc. 2018-27903 Filed 12-26-18; 8:45 am]

BILLING CODE 6560-50-P